DEPARTMENT OF COMMERCE

Economic Development Administration

Proposed Information Collection; Comment Request; Government Performance and Results Act (GPRA) Data Collection

AGENCY: Economic Development Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 11, 2014.

ADDRESSES: Direct all written comments to Jennifer Jessup, Departmental Paperwork Clearance Officer, Department of Commerce, Room 6625, 14th and Constitution Avenue NW., Washington, DC 20230 (or via the Internet at JJessup@doc.gov).

FOR FURTHER INFORMATION CONTACT: Requests for additional information or copies of the information collection instrument and instructions should be directed to Mark Lofthus, Program Analyst, Performance and National Programs Division, Room 71030, Economic Development Administration, Washington, DC 20230, or at email mlofthus@eda.gov or telephone (202) 482-0831.

SUPPLEMENTARY INFORMATION:

I. Abstract

The Economic Development Administration's mission is to lead the federal economic development agenda by promoting innovation and competitiveness, preparing American regions for growth and success in the worldwide economy. The Economic Development Administration (EDA) accomplishes its mission by helping our partners across the nation (states, regions, and communities) create wealth and minimize poverty by promoting a favorable business environment to attract private capital investment and jobs through world-class capacity building, planning, infrastructure, research grants, and strategic initiatives.

EDA's strategic investments in public infrastructure and local capital markets provide lasting benefits for economically disadvantaged areas. Acting as catalysts to mobilize public and private investments, EDA's investments address problems of high unemployment, low per capita income, and other forms of severe economic distress in local communities. EDA also provides special economic adjustment assistance to help communities and businesses respond to major layoffs, plant shutdowns, trade impacts, natural disasters, military facility closures, and other severe economic dislocations.

EDA must comply with the Government Performance and Results Act of 1993 which requires Federal agencies to develop performance measures, and report to Congress and stakeholders the results of the agency's performance. EDA must collect specific data from grant recipients to report on its performance in meeting its stated goals and objectives.

II. Method of Collection

EDA has developed four short data collection forms; one for each type of respondent. Respondents will submit the form to the appropriate EDA regional office for compilation and transmission to EDA headquarters.

III. Data

OMB Control Number: 0610-0098.

Form Number(s): ED-915, ED-916, ED-917, and ED-918.

Type of Review: Regular submission (extension of currently approved information collection).

Affected Public: State, local or tribal governments; community organizations; not-for-profit organizations.

Estimated Number of Respondents: 1,529.

Estimated Time per Response: 7 hours.

Estimated Total Annual Burden Hours: 10,703.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 4, 2014.
Gwellnar Banks,
Management Analyst, Office of the Chief Information Officer.

[FR Doc. 2014-13421 Filed 6-9-14; 8:45 am]

BILLING CODE 3510-24-P